DEPARTMENT OF TRANSPORTATION

Federal Aviation Administration

Notice of Submission Deadline for International Slots for the Winter 2006 Scheduling Season

AGENCY: Department of Transportation, FAA.

ACTION: notice of submission deadline.

SUMMARY: On October 1, 1999, the FAA amended the regulations governing takeoff and landing slots and slot allocation procedures at certain High Density Traffic Airports as a result of the “Open Transborder” Agreement between the Government of the United States and the Government of Canada. One element of this final rule established that the deadline for submission of requests for international slots will be published in a Federal Register notice for each scheduling season. The purpose of the amendment is for the FAA deadline for international slots requests to coincide with the International Air Transport Association (IATA) deadline for submission of slot requests.

In accordance with this amendment, the FAA announces in this notice that the deadline for submitting requests for international slots at John F. Kennedy International Airport (JFK) for allocation under 14 CFR 93.217 is May 11, 2006. The FAA will allocate international slots through December 31, 2006 only, as the High Density Rule expires at JFK on December 31, 2006. (See 49 U.S.C. 41715(a)(2).) After that date, slots will no longer be required for operation at JFK.

The FAA has designated Chicago's O'Hare International Airport (O'Hare) as a Level 2, Schedules Facilitated Airport under the IATA Guidelines and will review international operations based on runway parameters. The FAA requests carriers intending to conduct international service at O'Hare for the Winter 2006/07 Scheduling Season to submit their intended schedules following the same procedures used for submitting requests for slots at JFK. Carriers are advised that this notice does not alter or change any coordination procedures conducted by the City of Chicago for O'Hare's Terminal 5 facilities.

Finally, the U.S. scheduling season is consistent with the changes in daylight savings time. In accordance with the Energy Policy Act of 2005 (Pub. L. 109-58), daylight savings time will begin on March 11, 2007 and end on November 3, 2007. The IATA Northern Winter Scheduling Season will end on March 24, 2007, and its Summer Scheduling Season will only begin on March 25, 2007. There is a two-week period for which the IATA Winter scheduling season will overlap with the U.S. summer scheduling season. We recognize this transition period will cause some carriers to adjust scheduled times based on their network requirements and other considerations. For O'Hare, the FAA will accept carriers' schedule requests for the entire IATA Northern Winter Scheduling Season (ending on March 24, 2007), even though that will be the first two weeks of the U.S. summer scheduling season. This will facilitate carriers seeking to confirm schedules at other worldwide slot coordinated airports in accordance with the IATA season and coordination process. Carriers should clearly indicate any schedule differences during the March 11 to 24, 2007, period. The FAA intends to provide the maximum practical flexibility to accommodate schedule adjustments during this period and does not anticipate any significant issues regarding historic rights due to the earlier introduction of daylight saving time in the U.S. A deadline for submitting the reamining summer schedules for 2007 will by announced in the Federal Register by September 2006.

The Department of Transportation reserves the right to withhold the approval of schedules to any foreign air carrier of a country that does not provide equivalent rights of access to its airports for U.S. air carriers, as determined by the Secretary of Transportation.

DATES: Requests for international slots must be submitted no later than May 11, 2006.

ADDRESSES: Requests may be submitted by mail to Slot Administration Office, AGC-220 Office of the Chief Counsel, 800 Independence Ave., SW., Washington, DC 20591; facsimile: 202-267-7277; ARINC: DCAYAXD; or by e-mail to: 7-AWA-slotadmin@faa.gov.

FOR FURTHER INFORMATION CONTACT: Lorelei Peter, Regulations Division, Office of the Chief Counsel, Federal Aviation Administration, 800 Independence Avenue, SW., Washington, DC 20591; telephone number: 202-267-3073.

Issued in Washington, DC on April 24, 2006.
James Whitlow,
Deputy Chief Counsel.

[FR Doc. 06-3991 Filed 4-26-06; 8:45 am]

BILLING CODE 4910-13-M